DEPARTMENT OF TRANSPORTATION

Federal Aviation Administration

14 CFR Part 97

[Docket No. 30701 Amdt. No. 3352]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 28, 2009. The compliance date for each SIAP, associated Takeoff Minimums, and ODP is specified in the amendatory provisions.

The incorporation by reference of certain publications listed in the regulations is approved by the Director of the Federal Register as of December 28, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on December 11, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 14 JAN 2010

Muscle Shoals, AL, Northwest Alabama Rgnl, Takeoff Minimums and Obstacle DP, Orig

Wilmington, DE, New Castle, VOR RWY 1, Amdt 4

Wilmington, DE, New Castle, VOR OR GPS RWY 19, Amdt 4B, CANCELLED

Kansas City, MO, Kansas City Intl, RNAV (GPS) Y RWY 1R, Amdt 1A

Kansas City, MO, Kansas City Intl, RNAV (RNP) Z RWY 1R, Orig-A

Walnut Cove, NC, Meadow Brook Field, Takeoff Minimums and Obstacle DP, Amdt 1

Malone, NY, Malone-Dufort, VOR/DME-A, Amdt 1, CANCELLED

Wilkes-Barre/Scranton, PA, Wilkes-Barre/Scranton Intl, RNAV (GPS) RWY 22, Orig-A

Norfolk, VA, Hampton Roads Executive, NDB RWY 2, Amdt 7, CANCELLED

Effective 11 FEB 2010

Sylacauga, AL, Merkel Field Sylacauga Muni, RNAV (GPS) RWY 9, Amdt 1

Sylacauga, AL, Merkel Field Sylacauga Muni, RNAV (GPS) RWY 27, Amdt 1

Lake Village, AR, Lake Village Muni, GPS RWY 1, Orig-A, CANCELLED

Lake Village, AR, Lake Village Muni, GPS RWY 19, Orig, CANCELLED

Lake Village, AR, Lake Village Muni, RNAV (GPS) RWY 1, Orig

Lake Village, AR, Lake Village Muni, RNAV (GPS) RWY 19, Orig

Lake Village, AR, Lake Village Muni, Takeoff Minimums and Obstacle DP, Orig

West Memphis, AR, West Memphis Muni, GPS RWY 17, Orig-B, CANCELLED

West Memphis, AR, West Memphis Muni, GPS RWY 35, Orig-B, CANCELLED

West Memphis, AR, West Memphis Muni, RNAV (GPS) RWY 17, Orig

West Memphis, AR, West Memphis Muni, RNAV (GPS) RWY 35, Orig

Scottsdale, AZ, Scottsdale, Takeoff Minimums and Obstacle DP, Amdt 8

Little River, CA, Little River, LITTLE RIVER ONE Graphic Obstacle DP

Little River, CA, Little River, Takeoff Minimums and Obstacle DP, Orig

Van Nuys, CA, Van Nuys, Takeoff Minimums and Obstacle DP, Amdt 4

Grand Junction, CO, Grand Junction Rgnl, ILS OR LOC RWY 11, Amdt 16

Titusville, FL, Space Coast Rgnl, RNAV (GPS) RWY 36, Orig-A

Weno Island, FM, Chuuk Intl, Takeoff Minimums and Obstacle DP, Amdt 2

Bainbridge, GA, Decatur Co Industrial Air Park, ILS OR LOC RWY 27, Orig

Cornelia, GA, Habersham County, Takeoff Minimums and Obstacle DP, Amdt 3

Forest City, IA, Forest City Muni, Takeoff Minimums and Obstacle DP, Amdt 2

Boise, ID, Boise Air Terminal/Gowen Field, GOWEN ONE Graphic Obstacle DP

Boise, ID, Boise Air Terminal/Gowen Field, Takeoff Minimums and Obstacle DP, Amdt 6

Boise, ID, Boise Air Terminal/Gowen Field, VOR/DME OR TACAN RWY 28L, Amdt 2

Coeur D'Alene, ID, Coeur D'Alene-Pappy Boyington Field, COEUR D'ALENE ONE Graphic Obstacle DP

Coeur D'Alene, ID, Coeur D'Alene-Pappy Boyington Field, Takeoff Minimums and Obstacle DP, Amdt 9

Junction City, KS, Freeman Field, Takeoff Minimums and Obstacle DP, Amdt 2

Minneapolis, MN, Flying Cloud, COPTER ILS OR LOC RWY 10R, Amdt 1

Minneapolis, MN, Flying Cloud, ILS OR LOC RWY 10R, Amdt 3

Minneapolis, MN, Flying Cloud, VOR RWY 10R, Amdt 9

Minneapolis, MN, Flying Cloud, VOR RWY 36, Amdt 12, CANCELLED

Minneapolis, MN, Flying Cloud, VOR/DME RWY 36, Orig

Minneapolis, MN, Minneapolis-St Paul Intl/Wold Chamberlain, CONVERGING ILS RWY 30R, Amdt 1

Minneapolis, MN, Minneapolis-St Paul Intl/Wold Chamberlain, CONVERGING ILS RWY 35, Amdt 2

Minneapolis, MN, Minneapolis-St Paul Intl/Wold Chamberlain, ILS OR LOC RWY 12L, ILS RWY 12L (CAT II), ILS RWY 12L (CAT III), Amdt 8

Minneapolis, MN, Minneapolis-St Paul Intl/Wold Chamberlain, ILS OR LOC RWY 12R, ILS RWY 12R (CAT II), ILS RWY 12R (CAT III), Amdt 9

Minneapolis, MN, Minneapolis-St Paul Intl/Wold Chamberlain, ILS OR LOC RWY 30R, Amdt 13

Minneapolis, MN, Minneapolis-St Paul Intl/Wold Chamberlain, ILS OR LOC RWY 35, ILS RWY 35 (CAT II), ILS RWY 35 (CAT III), Amdt 2

Minneapolis, MN, Minneapolis-St Paul Intl/Wold Chamberlain, LOC RWY 4, Amdt 1

Minneapolis, MN, Minneapolis-St Paul Intl/Wold Chamberlain, LOC RWY 17, Amdt 1

Minneapolis, MN, Minneapolis-St Paul Intl/Wold Chamberlain, LOC RWY 22, Amdt 1

Minneapolis, MN, Minneapolis-St Paul Intl/Wold Chamberlain, RNAV (GPS) RWY 12L, Amdt 2

St. Paul, MN, St. Paul Downtown Holman Field, COPTER ILS OR LOC RWY 32, Orig-A, CANCELLED

St. Paul, MN, St. Paul Downtown Holman Field, ILS OR LOC RWY 14, Amdt 1

St. Paul, MN, St. Paul Downtown Holman Field, ILS OR LOC RWY 32, Amdt 5

Newark, NJ, Newark Liberty Intl, Takeoff Minimums and Obstacle DP, Amdt 5

Binghamton, NY, Greater Binghamton/Edwin A Link Field, RNAV (GPS) RWY 34, Amdt 1

Fremont, OH, Fremont, RNAV (GPS) RWY 9, Orig-A

Allendale, SC, Allendale County, Takeoff Minimums and Obstacle DP, Orig

Greer, SC, Greenville-Spartanburg Intl-Roger Milliken, Takeoff Minimums and Obstacle DP, Amdt 1

Dallas, TX, Collin County Rgnl at McKinney, VOR/DME-A, Amdt 1

Kanab, UT, Kanab Muni, Takeoff Minimums and Obstacle DP, Amdt 3

Clintonville, WI, Clintonville Muni, RNAV (GPS) RWY 4, Amdt 1

Clintonville, WI, Clintonville Muni, RNAV (GPS) RWY 14, Amdt 1

Clintonville, WI, Clintonville Muni, RNAV (GPS) RWY 22, Amdt 1

Clintonville, WI, Clintonville Muni, RNAV (GPS) RWY 32, Amdt 1

Bluefield, WV, Mercer County, ILS OR LOC RWY 23, Amdt 15

Bluefield, WV, Mercer County, RNAV (GPS) RWY 5, Orig

Bluefield, WV, Mercer County, RNAV (GPS) RWY 23, Orig

Bluefield, WV, Mercer County, VOR RWY 23, Amdt 9

Bluefield, WV, Mercer County, VOR/DME RWY 23, Amdt 5

Torrington, WY, Torrington Muni, Takeoff Minimums and Obstacle DP, Orig

[FR Doc. E9-30177 Filed 12-24-09; 8:45 am]

BILLING CODE 4910-13-P